DEPARTMENT OF COMMERCE

National Oceanic and Atmospheric Administration

50 CFR Part 660

[Docket No. 010502110-1110-01; I.D. 081601B]

Fisheries Off West Coast States and in the Western Pacific; West Coast Salmon Fisheries; Closure and Inseason Adjustments for the Recreational and Commercial Salmon Seasons from Queets River, WA, to Humbug Mountain, OR

AGENCY: National Marine Fisheries Service (NMFS), National Oceanic and Atmospheric Administration (NOAA), Commerce.

ACTION: Inseason closure, and adjustments to the 2001 annual management measures for the ocean salmon fishery; request for comments.

SUMMARY: NMFS announces the following inseason actions for the ocean salmon fisheries: Closure of the recreational selective fishery for marked hatchery coho in the area from Cape Falcon, OR, to Humbug Mountain, OR, on July 19, 2001, at 2359 hours local time (l.t.); reopening of the recreational fishery for all salmon except coho on July 20, 2001; and modification of the weekly opening period and addition of a limited retention regulation for the commercial fishery from the Queets River, WA, to Cape Falcon, OR, to follow a cycle of 4 days open/3 days closed, and a limit of 65 chinook per open period per boat. These actions are necessary to conform to the 2001 annual management measures for ocean salmon fisheries.

DATES: Closure in the area from Cape Falcon, OR, to Humbug Mountain, OR—effective 2359 hours l.t., July 19, 2001. Reopening in the area from Cape Falcon, OR, to Humbug Mountain, OR—effective 0001 hours l.t., July 20, 2001. Adjustments in the area from Queets River, WA, to Cape Falcon, OR— effective 0001 hours l.t., July 20, 2001. All of the above inseason actions will remain effective until the effective date of the 2002 management measures, as published in the Federal Register, or until further inseason actions are announced in the Federal Register. Comments will be accepted through September 13, 2001.

ADDRESSES: Submit written comments to Donna Darm, Acting Regional Administrator, Northwest Region, NMFS, NOAA, 7600 Sand Point Way N.E., Bldg. 1, Seattle, WA 98115-0070; fax 206-526-6376; or Rebecca Lent, Regional Administrator, Southwest Region, NMFS, NOAA, 501 W. Ocean Blvd., Suite 4200, Long Beach, CA 90802-4132; fax 562-980-4018. Comments will not be accepted if submitted via e-mail or the Internet. Information relevant to this document is available for public review during business hours at the Office of the Regional Administrator, Northwest Region, NMFS.

FOR FURTHER INFORMATION CONTACT: Christopher Wright, 206-526-6140, Northwest Region, NMFS, NOAA.

SUPPLEMENTARY INFORMATION:

Closure From Cape Falcon to Humbug Mountain, OR

The Northwest Regional Administrator, NMFS (Regional Administrator), determined that the recreational quota of 55,000 marked coho salmon for the area from Cape Falcon to Humbug Mountain had been reached, and closed the fishery for all salmon at midnight on July 19, 2001. Regulations governing the ocean salmon fisheries at 50 CFR 660.409 (a)(1) state that, when a quota for any salmon species in any portion of the fishery management area is projected by the Regional Administrator to be reached on or by a certain date, NMFS will, by notification issued under 50 CFR 660.411 (a)(2), close the fishery for all salmon species in the portion of the fishery management area to which the quota applies, as of the date the quota is projected to be reached.

In the 2001 annual management measures for ocean salmon fisheries (66 FR 23185, May 8, 2001), NMFS announced that the recreational selective fishery for marked hatchery coho in the area between Cape Falcon to Humbug Mountain, OR, would open on June 22 through the earlier of July 31 or the attainment of a 55,000-marked coho quota; it was also announced that the recreational season for all salmon except coho would reopen the earlier of August 1 or the attainment of the coho quota.

The Oregon Department of Fish and Wildlife (ODFW) reported the landed catch, as of July 18, 2001, was 42,179 marked coho salmon (77 percent of the quota). ODFW considered information related to angler effort and catch rate, and estimated that the remainder of the quota would be taken by July 19, 2001. Therefore, ODFW recommended that NMFS close the area, effective midnight on July 19, 2001. This would allow the recreational fishery for all salmon except coho to reopen July 20, 2001.

Adjustments in the Area From Queets River to Cape Falcon

Based on information received from the Washington Department of Fish and Wildlife (WDFW) and ODFW, the Regional Administrator determined that modification of the weekly opening period for the commercial salmon fishery from the Queets River, WA, to Cape Falcon, OR, was justified to slow the chinook catch rates, to better monitor the fishery, and to avoid an early closure that would limit access to the coho quota. The weekly opening period was modified to implement a cycle of 4 days open/3 days closed and a limited retention regulation of 65 chinook per open period per boat. Modification of fishing seasons is authorized by regulations at 50 CFR 660.409 (b)(1)(i). Modification of the species that may be caught and landed during specific seasons, and the establishment or modification of limited retention regulations, is authorized by regulations at 50 CFR 660.409 (b)(1)(ii).

In the 2001 annual management measures for ocean salmon fisheries (66 FR 23185, May 8, 2001), NMFS announced that the commercial fishery for all salmon in the area from the Queets River, WA, to Cape Falcon, OR, would open the earlier of the day following closure of the U.S.-Canada Border to Leadbetter Pt. July troll fishery or July 28, but not before July 20, through the earliest of September 30 or the overall chinook quota (preseason 6,000-chinook guideline) or a 63,000-marked coho guideline. The fishery was scheduled to run continuously until 75 percent of either guideline was caught, then it would revert to a cycle of 4 days open/3 days closed. The annual measures also indicated that trip limits, gear restrictions, and guidelines may be instituted or adjusted inseason.

The U.S.-Canada Border to Leadbetter Pt. July troll fishery was closed in an inseason action on July 9, 2001, at 2359 hours l.t. (66 FR 38573, July 25, 2001). Therefore, the commercial fishery for all salmon from Queets River to Cape Falcon opened July 20, 2001.

The WDFW and ODFW reported, during a conference call on July 18, 2001, that the catch rate of chinook relative to coho was higher than anticipated based on observations from ongoing fisheries. The states were concerned that the chinook quota for the commercial fishery from Queets River to Cape Falcon was likely to be reached early, leaving a major portion of the coho quota unharvested. The states recommended that the fishery follow a cycle of 4 days open/3 days closed, and that a limit of 65 chinook per open period per boat be implemented effective July 20, 2001, to control and better assess the progress of the fishery and allow for further adjustments if necessary.

The Regional Administrator consulted with representatives of the Pacific Fishery Management Council, WDFW, and ODFW regarding the above inseason actions by conference call. The best available information on July 18, 2001, indicated that the catch/effort data and projections supported the recreational selective fishery closure and the commercial fishery season modifications. The states will manage the fisheries in state waters adjacent to the areas of the exclusive economic zone in accordance with these Federal actions. As provided by the inseason notice procedures of 50 CFR 660.411, actual notice to fishermen of the closure in the area from Cape Falcon to Humbug Mountain, OR, effective 2359 hours l.t., July 19, 2001, and the adjustments in the area from Queets River to Cape Falcon effective 0001 hours l.t., July 20, 2001, were given prior to the effective dates by telephone hotline number 206-526-6667 and 800-662-9825, and by U.S. Coast Guard Notice to Mariners broadcasts on Channel 16 VHF-FM and 2182 kHz.

Because of the need for immediate action to stop the fishery upon achievement of the quota for the area from Cape Falcon to Humbug Mountain, OR, and for the season modifications for the area from Queets River to Cape Falcon, NMFS has determined that good cause exists for this notification to be issued without affording a prior opportunity for public comment because such notification would be unnecessary, impracticable, and contrary to the public interest. Moreover, because of the immediate need to stop a fishery upon achievement of a quota and modify a season because of estimates of effort and catch, the Assistant Administrator for Fisheries, NOAA, finds, for good cause, under 5 U.S.C. 553 (d)(3), that delaying the effectiveness of this rule for 30 days is impracticable and contrary to public interest.

These actions do not apply to other fisheries that may be operating in other areas.

Classification

These actions are authorized by 50 CFR 660.409 and 660.411 and are exempt from review under Executive Order 12866.

Authority: 16 U.S.C. 1801 et seq.

Dated: August 23, 2001.
Dean Swanson,
Acting Director, Office of Sustainable Fisheries, National Marine Fisheries Service.

[FR Doc. 01-21858 Filed 8-28-01; 8:45 am]

BILLING CODE 3510-22-S